DEPARTMENT OF HEALTH AND HUMAN SERVICES

Centers for Disease Control and Prevention

[30Day-16-16MM]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Performance Monitoring of “Working with Publicly Funded Health Centers to Reduce Teen Pregnancy among Youth from Vulnerable Populations”—New—National Center for Chronic Disease Prevention and Health Promotion (NCCDPHP), Centers for Disease Control and Prevention (CDC).

Background and Brief Description

In 2014, the US rate of 24.2 births per 1,000 female teens aged 15-19 was the highest of all Western industrialized countries. Access to reproductive health services and the most effective types of contraception has been shown to reduce the likelihood that teens become pregnant. Nevertheless, recent research and lessons learned through a previous teen pregnancy prevention project implemented through CDC in partnership with the Office of Adolescent Health (2010-2015; OMB no. 0920-0952, exp. date 12/31/2015) demonstrate that many health centers serving teens do not engage in youth-friendly best practices that may enhance access to care and to the most effective types of contraception. Furthermore, youth at highest risk of experiencing a teen pregnancy are often not connected to the reproductive health care that they need, even when they are part of a population that is known to be at high risk for a teen pregnancy. Significant racial, ethnic and geographic disparities in teen birth rates persist and continue to be a focus of public health efforts.

To address these challenges, CDC is providing funding to three organizations to strengthen partnerships and processes that improve reproductive health services for teens. Mississippi First, Inc., a non-profit focused on child well-being and educational achievement, was funded to work in Coahoma, Quitman and Tunica counties in Mississippi. Sexual Health Initiatives For Teens North Carolina (SHIFT NC), a non-profit organization focused on the sexual health of adolescents, was funded to work in Durham County, North Carolina. The Georgia Association for Primary Health Care, Inc, which represents all of Georgia's Federally Qualified Health Centers, was funded to work in Chatham County, Georgia. CDC's awardees will work with approximately 25 publicly funded health centers to support implementation of evidence-based recommendations for health centers and providers to improve adolescent access to reproductive health services. In addition, awardees will work with approximately 35 youth-serving organizations (YSO) to provide staff training and develop systematic approaches to identifying youth who are at risk for a teen pregnancy and referring those youth to reproductive health care services. Finally, awardees will develop communication campaigns that increase awareness of the partner health centers' services for teens. Activities are expected to result in changes to health center and YSO partners' policies, to staff practices, and to youth health care seeking and teen pregnancy prevention behaviors.

The best practices to improve adolescent access to reproductive health services included in this program are supported by evidence in the literature and recommended by major medical associations. Each of the components of the current project has been implemented as part of past teen pregnancy prevention efforts. Consistent with CDC's mission of using evidence to improve public health programs, conducting an evaluation of combined best practices, in concert with community-clinical linkage of youth to services to increase their access to reproductive health care, can provide information that will inform future teen pregnancy prevention efforts. CDC therefore plans to collect information needed to assess these efforts. Information will be collected from the CDC awardees, the health center and YSO partner organizations, staff at these organizations, and the youth served by the health center partner organizations. CDC will use the information to determine the types of training and technical assistance that are needed, to monitor whether awardees meet objectives related to health center and YSO partners' policies and staff practices, to support a data-driven quality improvement process for adolescent sexual and reproductive health care services and referrals, and to assess whether the project model was effective in increasing the utilization of services by youth.

OMB approval is requested for three years. Participation in the organizational assessment activities is required for awardees and partner organizations. Participation in the Health Center Youth Survey is voluntary for youth and will not involve the collection of identifiable personal information. There are no costs to respondents other than their time. The total estimated annualized burden hours are 1,150.

Estimated Annualized Burden Hours
Respondents | Form name | Number of respondents | Number of responses per respondent | Average burden per response (in hours)
Private Sector | Health Center Organizational Assessment | 21 | 1 | 2
| Quarterly Health Center Performance Measure Reporting Tool | 21 | 3 | 4
| Annual Health Center Performance Measure Reporting Tool | 21 | 1 | 6
| Health Center Provider Survey | 126 | 1 | 20/60
| Youth Serving Organization (YSO) Organizational Assessment | 15 | 1 | 1
| YSO Performance Measure Reporting Tool | 15 | 4 | 1
| Youth Serving Organization (YSO) Staff Survey | 225 | 1 | 20/60
| Awardee Training and Technical Assistance Tool | 3 | 12 | 2
| Awardee Performance Measure Reporting Tool | 3 | 1 | 1
Individual | Health Center Youth Survey | 1050 | 1 | 10/60
State and Local Government | Health Center Organizational Assessment | 4 | 1 | 2
| Quarterly Health Center Performance Measure Reporting Tool | 4 | 3 | 4
| Annual Health Center Performance Measure Reporting Tool | 4 | 1 | 6
| Health Center Provider Survey | 24 | 1 | 20/60
| Youth Serving Organization (YSO) Organizational Assessment | 20 | 1 | 1
| YSO Performance Measure Reporting Tool | 20 | 4 | 1
| Youth Serving Organization (YSO) Staff Survey | 300 | 1 | 20/60

Jeffrey M. Zirger,
Acting Chief, Information Collection Review Office, Office of Scientific Integrity, Office of the Associate Director for Science, Office of the Director, Centers for Disease Control and Prevention.

[FR Doc. 2016-16419 Filed 7-11-16; 8:45 am]

BILLING CODE 4163-18-P